DEPARTMENT OF AGRICULTURE

Food and Nutrition Service

Agency Information Collection Activities: Proposed Collection; Comment Request—WIC Federal and State Agreements (Form FNS-339)

AGENCY: Food and Nutrition Service (FNS), USDA.

ACTION: Notice.

SUMMARY: In accordance with the Paperwork Reduction Act of 1995, this notice invites the general public and other public agencies to comment on proposed information collections. The proposed information collection is a request for a revision of a currently approved collection of information relating to the reporting burden associated with completing and submitting form FNS-339, the Federal and State Agreement for the Special Supplemental Nutrition Program for Women, Infants and Children (WIC); the WIC Farmers' Market Nutrition Program (FMNP); and/or the Senior Farmers' Market Nutrition Program (SFMNP).

DATES: Written comments on this notice must be received on or before September 21, 2015.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Julie Brewer, Chief, Policy Branch, Supplemental Food Programs Division, Food and Nutrition Service, U.S. Department of Agriculture, 3101 Park Center Drive, Room 520, Alexandria, VA 22302. Comments will also be accepted through the Federal eRulemaking Portal. Go to http://www.regulations.gov, and follow the online instructions for submitting comments electronically.

All written comments will be open for public inspection at the office of the Food and Nutrition Service during regular business hours (8:30 a.m. to 5:00 p.m., Monday through Friday) at 3101 Park Center Drive, Room 520, Alexandria, Virginia 22302.

All responses to this notice will be summarized and included in the request for Office of Management and Budget approval. All comments will be a matter of public record.

FOR FURTHER INFORMATION CONTACT: Requests for additional information or copies of this information collection should be directed to Julie Brewer at 703-305-2746.

SUPPLEMENTARY INFORMATION: Title: WIC Federal and State Agreements.

Form Number: FNS-339.

OMB Number: 0584-0332.

Expiration Date: November 30, 2015.

Type of Request: Revision of a currently approved collection.

Abstract: The Federal-State Special Supplemental Nutrition Program Agreement (Form FNS-339) collects information that is used by the Special Supplemental Nutrition Program for Women, Infants, and Children (WIC), the WIC Farmers' Market Nutrition Program (FMNP), and the Senior Farmers' Market Nutrition Program (SFMNP). At the Federal level, the Food and Nutrition Service (FNS), U.S. Department of Agriculture (USDA), administers the WIC Program and the FMNP under Section 17 of the Child Nutrition Act (CNA) of 1966, as amended, and the SFMNP under 7 U.S.C. 3007. The Federal-State Agreement is the annual contract between USDA and each State agency seeking to operate one or more of the following programs: (1) WIC, (2) FMNP, and (3) SFMNP.

The agreement requires the signature of the Chief State agency official and includes a certification/assurance regarding drug free workplace, a certification regarding lobbying, and a disclosure of lobbying activities. The signed agreement is the contract between USDA and each State agency that administers WIC, FMNP and/or SFMNP, thereby authorizing USDA to release funds to the State agencies for the administration of the Program(s) in the jurisdiction of the State in accordance with the provisions of 7 CFR parts 246, 248, and/or 249. The State agency agrees to accept Federal funds for expenditure in accordance with applicable statutes and regulations and to comply with all provisions of such statutes and regulations.

The number of respondents (agencies administering WIC, FMNP and SFMNP) has decreased from 142 to 124, decreasing the total annual burden from 35.5 to 31 hours.

Affected Public: State, Territorial and Tribal Agencies.

Respondent Type: The Chief Health Officer of the WIC State agency, or the Chief Agency Official of the FMNP or SFMNP State agency (e.g., a State Commissioner of Agriculture or Agency on Aging), if not administered by the WIC State agency in that State.

Estimated Number of Respondents: There will be an estimated 124 respondents. This includes an unduplicated count of respondents that are responsible for the operation of 90 WIC Programs, 48 FMNPs and 51 SFMNPs.

Estimated Frequency of Responses per Respondent: 1. There is one response per agency for the Program(s) for which they are involved.

Estimated Total Annual Responses: 124 responses.

Estimated Time per Response: The estimated time of each response is 15 minutes (.25 hours).

It takes respondents approximately 7.5 minutes (.125 hours) to read and sign the required form. Additionally, respondents spend another 7.5 minutes (.125 hours) making photocopies and filing each year. Therefore, the number of hours spent per each of the 124 reports per year is 0.25 hours totaling the requested 31 burden hours.

Estimated Total Annual Burden on Respondents: The total estimated annual burden is 31 hours.

Affected public | Form | Estimated number of respondents | Number of responses per respondent | Total annual responses | Estimated total hours per response | Estimated total burden hours
State, Territorial, and Tribal Governments | FNS-339 | 124 | 1 | 124 | .25 | 31
Total Burden |  | 124 | 1 | 124 | .25 | 31

Dated: July 16, 2015.
Audrey Rowe,
Administrator, Food and Nutrition Service.

[FR Doc. 2015-18063 Filed 7-22-15; 8:45 am]

BILLING CODE 3410-30-P